DEPARTMENT OF AGRICULTURE

Animal and Plant Health Inspection Service

9 CFR Part 145

[Docket No. 03-017-3]

National Poultry Improvement Plan; Technical Amendment

AGENCY: Animal and Plant Health Inspection Service, USDA.

ACTION: Final rule; technical amendment.

SUMMARY: In a final rule published in the Federal Register on November 14, 2003, and effective December 15, 2003, we amended the National Poultry Improvement Plan (the Plan) and its auxiliary provisions by providing new or modified sampling and testing procedures for Plan participants and participating flocks. In one instance in that final rule, we misidentified the type of birds to be tested under the U.S. Avian Influenza Clean program for waterfowl, exhibition poultry, and game bird breeding flocks. Therefore, we are amending the provisions of the Plan so that they correctly identify the type of birds to be tested.

EFFECTIVE DATE: December 15, 2003.

FOR FURTHER INFORMATION CONTACT: Mr. Andrew R. Rhorer, Senior Coordinator, Poultry Improvement Staff, National Poultry Improvement Plan, Veterinary Services, APHIS, USDA, 1498 Klondike Road, Suite 200, Conyers, GA 30094-5104; (770) 922-3496.

SUPPLEMENTARY INFORMATION:

Background

In a final rule published in the Federal Register on November 14, 2003 (68 FR 64507-64512, Docket No. 03-017-2), and effective December 15, 2003, we amended the National Poultry Improvement Plan (the Plan) and its auxiliary provisions by providing new or modified sampling and testing procedures for Plan participants and participating flocks.

As part of that final rule, we added a new U.S. Avian Influenza Clean program to the regulations governing waterfowl, exhibition poultry, and game bird breeding flocks in § 145.53(e). Under that program, we require that a sample of at least 30 birds must test negative for antibodies to avian influenza in order for a flock to retain its U.S. Avian Influenza Clean classification; for primary breeding flocks, the maximum interval between tests is 90 days, and for multiplier breeding flocks, the maximum interval between tests is 180 days. However, the regulations provide that a sample of fewer than 30 birds may be tested at any one time if all pens are equally represented and a total of 30 birds are tested within each 90- or 180-day period.

In paragraph (e)(2)(ii) of § 145.53 in our final rule, we stated “[a] sample of fewer than 30 birds may be tested, and found to be negative, at any one time if all pens are equally represented and a total of 30 unvaccinated sentinel birds are tested within each 180-day period.” Our reference to “unvaccinated sentinel birds” in § 145.53(e)(2)(ii) was in error. Everywhere else in § 145.53(e) where we refer to required testing, we refer simply to “birds,” and there are no provisions made in the U.S. Avian Influenza Clean program described in § 145.53(e) for the use of sentinel birds or the setting aside of unvaccinated birds. Therefore, we are amending § 145.53(e)(2)(ii) in this document to remove the words “unvaccinated sentinel” before the word “birds” in that paragraph.

List of Subjects in 9 CFR Part 145

Animal diseases, Poultry and poultry products, Reporting and recordkeeping requirements.

Accordingly, we are amending 9 CFR part 145 as follows:

PART 145—NATIONAL POULTRY IMPROVEMENT PLAN

1. The authority citation for part 145 continues to read as follows:

Authority: 7 U.S.C. 8301-8317; 7 CFR 2.22, 2.80, and 371.4.

§ 145.53 [Amended]

2. In § 145.53, paragraph (e)(2)(ii) is amended by removing the words “unvaccinated sentinel”.

Done in Washington, DC, this 12th day of February, 2004.
Kevin Shea,
Acting Administrator, Animal and Plant Health Inspection Service.

[FR Doc. 04-3594 Filed 2-18-04; 8:45 am]

BILLING CODE 3410-34-P